DEPARTMENT OF THE INTERIOR

National Park Service

Warner Valley Comprehensive Site Plan, Lassen Volcanic National Park, Plumas County, CA; Notice of Intent To Prepare an Environmental Impact Statement

Summary: In accordance with the National Environmental Policy Act of 1969 and pursuant to regulations of the President's Council on Environmental Quality (40 CFR 1501.7 and 1508.22) the National Park Service will prepare an Environmental Impact Statement (EIS) for a Comprehensive Site Plan for the Warner Valley area in Lassen Volcanic National Park. This notice supersedes a previous Notice of Intent which was published on April 4, 2003 (V68; N65; Pp16548-49) for a proposed Dream Lake Dam Management Plan. Subsequent to issuance of that notice it has been determined that future management of Dream Lake, located within Warner Valley, should be assessed as a part of a wider Warner Valley Comprehensive Site Plan (CSP). This notice hereby extends the scoping process and comment period; all comments received in response to the previous notice are documented in the project administrative record and need not be resubmitted.

Background: The purpose of the CSP/EIS will be to determine the desired future resource conditions in Warner Valley and outline the steps that will be taken in order to achieve those conditions. The CSP/EIS will evaluate the natural and cultural resources, aesthetics, and visitor experience in this area of the Park. Some topics that have already been identified as needing to be assessed include: (1) Future management of Dream Lake Dam, (2) impacts on wetlands, (3) historic structures, (4) protection of Drakesbad Meadow and Fen, (5) alternative energy, (6) water and sewage systems, (7) parking, (8) trail system, (9) accessibility, (10) safety, and (11) effluent from the horse corral (currently going into the meadow). The CSP will guide the management of Warner Valley over the subsequent 10-15 years.

Comments: Persons wishing to comment or express concerns on the management issues and future management direction of these lands should address their written responses to the Superintendent, Lassen Volcanic National Park, P.O. Box 100, Mineral, California 96063 (comments can also be e-mailed to: law_planning@nps.gov). All comment letters must be postmarked or transmitted not later than 30 days following the date this notice is published in the Federal Register (immediately upon confirmation of that date, it will be announced on the park Web site: http://www.nps.gov/law). Please note that names and addresses of people who comment become part of the public record. If individuals commenting request that their name or/and address be withheld from public disclosure, it will be honored to the extent allowable by law. Such requests must be stated prominently in the beginning of the comments. There also may be circumstances wherein the NPS will withhold from the record a respondent's identity, as allowable by law. As always: the NPS will make available to public inspection all submissions from organizations or businesses and from persons identifying themselves as representatives or officials of organizations and businesses; and, anonymous comments may not be considered.

At this time it is anticipated that three public workshops to hear additional comments and suggestions will be conducted in mid-June in the towns of Red Bluff (June 13), Chester (June 14), and Vacaville (June 15), California. The confirmed meeting times and locations will be posted on the park's website and announced via press release to local newspapers. Questions regarding the plan or scoping sessions should be addressed to the Superintendent either by mail to the above address, or by telephone at (530) 595-4444.

Decision: At this time it is anticipated that the Draft EIS/CSP would be released for public review during the spring of 2006, and depending on the nature and extent of public comment the Final EIS/CSP would be completed in winter of 2006. As a delegated EIS, the official responsible for the final decision is the Regional Director, Pacific West Region, National Park Service; subsequently the official responsible for implementing the approved plan would be the Superintendent, Lassen Volcanic National Park.

Dated: May 16, 2005.
Jonathan B. Jarvis,
Regional Director, Pacific West Region.

[FR Doc. 05-12537 Filed 6-23-05; 8:45 am]

BILLING CODE 4310-70-P